DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein

DATES: Comments must be received on or before November 9, 2018.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on October 02, 2018.
Donald P. Burger,
Chief, General Approvals and Permits Branch.

Application No. | Applicant | Regulation(s) affected | Nature of the special permits thereof
SPECIAL PERMITS DATA—Granted
11379-M | TRW AUTOMOTIVE INC. | 173.301, 173.302a | To modify the special permit to authorize additional disposal options. (modes 1,2,3,4,5).
11526-M | LINDE GAS NORTH AMERICA LLC | 172.203(a), 173.302a(b), 180.205(a), 180.205(c), 180.205(f), 180.205(g), 180.209(a), 180.209(b), 180.209(g) | To modify the special permit to authorize the removal of annual gain linearity requirement, update RIN locations and update the language on area corrosion patch requirement. (modes 1,2,3,4,5).
11827-M | FUJIFILM ELECTRONIC MATERIALS U.S.A., INC. | 180.605(c)(1), 180.352(b)(3) | To modify the special permit to authorize an additional hazardous material.
13220-M | ENTEGRIS, INC. | 173.302(a), 173.302c(a) | To modify the special permit to include drawings and specifications for cylinders that have regional markings (e.g. European and China Markings) necessary for export into these regions.
14154-M | CARLETON TECHNOLOGIES, INC. | 173.302a(a)(1), 173.304a(a)(1), 180.205 | To modify the special permit to authorize additional Division 2.2 gases.
14424-M | CHART, INC. | 172.301(c), 177.834(h) | To update the permit with the most current tank drawings.
20383-M | SACRAMENTO EXECUTIVE HELICOPTERS, INC | 172.101(j), 172.200, 172.301(c), 173.315(j)(1)(i) | To modify the special permit to authorize additional 2.1 and 2.2 hazmat items.
20597-M | DEPARTMENT OF DEFENSE (MILITARY SURFACE DEPLOYMENT & DISTRIBUTION COMMAND) | 173.220 | To modify the special permit initially granted on an emergency basis to a permanent basis and to authorize an increase in the amount of fuel to be transported in the remotely piloted vehicles which are fueled while in transportation.
20599-N | ALAMEDA COUNTY OFFICES | 172.320(a), 173.56(b) | To transport certain lifesaving pyrotechnic marine signal devices to disposal by motor vehicle without the use of a manufacturers EX number.
20640-N | Insitu Inc | 173.220(d) | To authorize the transportation in commerce of vehicles containing prototype lithium batteries via cargo-only aircraft.
20641-N | THERMO MF PHYSICS LLC | 173.304a(a)(1) | To authorize the transportation in commerce of non-DOT specification cylinders containing sulfur hexafluoride gas.
20646-N | OMNI TANKER PTY. LTD. | 107.503(b), 107.503(c), 172.102(c)(3), 172.203(a), 173.241, 173.242, 173.243, 178.348-1, 178.345-1, 178.347-1, 180.405, 180.413(d) | To authorize the manufacture, mark, sale, and use of non-DOT specification portable tanks.
20651-N | ATIEVA USA, INC | 172.101(j) | To authorize the transportation in commerce of lithium ion batteries in excess of 35 kg by cargo-only aircraft.
20655-N | UTAH STATE UNIVERSITY RESEARCH FOUNDATION | 173.185(a) | To authorize the transportation in commerce of low production lithium ion batteries contained in equipment by cargo-only aircraft.
20659-N | NATIONAL AERONAUTICS AND SPACE ADMINISTRATION | 173.301(f), 173.302a(a)(1) | To authorize the transportation in commerce of non-DOT specification pressure vessels that are incorporated into spacecraft.
20661-N | SAFT AMERICA INC | 172.400, 172.300, 173.301(g), 173.302a(a)(1), 173.185(b) | To authorize the transportation in commerce of large lithium battery assembly mounted within an ISO shipping container that also contains a securely mounted charged DOT specification cylinder as part of the fire suppression system.
20662-M | DEPARTMENT OF DEFENSE (MILITARY SURFACE DEPLOYMENT & DISTRIBUTION COMMAND) | 173.219(b) | To modify the special permit to change it from emergency to permanent. (modes 1,2,3).
20685-N | TOYOTA MOTORSPORT GMBH | 172.101(j) | To authorize the transportation in commerce of lithium batteries exceeding 35 kg by cargo-only aircraft.
20692-N | Tyvak Nano-Satellite Systems Inc. | 173.185(a) | To authorize the transportation in commerce of low production lithium ion batteries contained in equipment (spacecraft).
20783-N | PIPELINE AND HAZARDOUS MATERIALS SAFETY ADMINISTRATION | 172.700(a), 172.500, 172.200 | To authorize the transportation in commerce of cylinders containing flammable gas without being required to use placards, shipping papers or requiring hazmat employees to be trained.
SPECIAL PERMITS DATA—Denied
12412-M | RAGSDALE SERVICES INC |  | To modify the special permit to authorize hoses to be attached to discharge outlets during transportation while on private property.
12412-M | CLEAR VIEW ENTERPRISES LLC |  | To modify the special permit to authorize transporting hazmat in manifolded IBCs on a flatbed trailer.
12412-M | MIDLANDS CUSTOM APPLICATORS, LLC | 172.203(a), 172.302(c), 177.834(h) | To modify the special permit to authorize hoses to be attached to discharge outlets during transportation while on private property.
20262-N | SHIJIAZHUANG ENRIC GAS EQUIPMENT CO., LTD. | 173.302(a), 173.304(a) | To authorize the transportation of certain hazardous materials in non-DOT specification fiber reinforced composite cylinders.
20592-N | AEROJET ROCKETDYNE, INC. | 173.56(b) | To authorize the one time transportation of Class 1 materials that no longer in the form previously approved under an EX approval.
20615-N | FSTI, INC. | 172.102(c)(7) | To authorize the transportation in commerce of hydrochloric acid in portable tanks fitted with bottom outlets.
20683-N | SPACE EXPLORATION TECHNOLOGIES CORP. | 172.504(a) | To authorize the transportation in commerce of explosives incorporated into an article without placarding.
20693-N | LANXESS SOLUTIONS US INC. | 172.322, 172.101 | To authorize the transportation in commerce of marine pollutants to their initial US destination without marking the packages as marine pollutants.
SPECIAL PERMITS DATA—Withdrawn
12124-M | W. R. GRACE & CO.—CONN. | 173.242, 173.244 | To modify the special permit to authorize cargo vessel as an approved mode of transportation.
20657-N | NATIONAL AERONAUTICS AND SPACE ADMINISTRATION | 173.302a(a)(1) | To authorize the transportation in commerce of non-DOT specification pressure vessels incorporated into spacecraft via cargo vessel.

[FR Doc. 2018-22019 Filed 10-9-18; 8:45 am]

BILLING CODE 4909-60-P